DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: April 22, 2013, 8:30 a.m.-5:00 p.m., April 23, 2013, 9:00 a.m.-5:00 p.m.

Place: Health Resources and Services Administration, U.S. Department of Health and Human Services, 5600 Fishers Lane, Rockville, Maryland 20852, Room 18-57.

Status: The meeting will be open to the public.

Purpose: The members of the ACICBL will begin discussions to develop the legislatively mandated 13th Annual Report to the Secretary of Health and Human Services and Congress. The Committee members will focus on the working topic: Optimizing the Interprofessional Team Member's Contributions to Population Health. The Committee has invited Dr. John Gilbert, former Principal and Professor Emeritus at the University of British Columbia, Canada; Ms. Rachel Watman, Senior Program Officer, The John A. Hartford Foundation; Dr. John Bulger, Chief Quality Officer, Geisinger Health System; Dr. Paul McGann, Deputy Chief Medical Officer for Innovation Grants, Centers for Medicare & Medicaid Services; Dr. Thomas Edes, Director of Home and Community-Based Care, U.S. Department of Veterans Affairs; and Dr. Alex Camacho, Deputy Director, Office of Performance Measurement, Health Resources and Services Administration. The meeting will afford committee members with the opportunity to identify and discuss population health; interprofessional education, care and competencies; and best practices and the like in an effort to formulate appropriate recommendations for the Secretary and the Congress.

Agenda: The ACICBL agenda includes an overview of the Committee's general business activities, presentations by and dialogue with experts, and discussion sessions specifically for the development of recommendations to be addressed in the 13th Annual ACICBL Report. The agenda will be available 2 days prior to the meeting on the HRSA Web site (http://www.hrsa.gov/advisorycommittees/bhpradvisory/acicbl/acicbl.html). Agenda items are subject to change as priorities dictate.

SUPPLEMENTARY INFORMATION: Members of the public and interested parties may request to provide comments or register to attend the meeting by emailing their first name, last name, and full email address to BHPRAdvisoryCommittee@hrsa.gov or by contacting Ms. Crystal Straughn at 301-443-3594. Registration is first come, first served as space is limited.

FOR FURTHER INFORMATION CONTACT: Anyone requesting information regarding the ACICBL should contact Dr. Joan Weiss, Designated Federal Official within the Bureau of Health Professions, Health Resources and Services Administration, in one of three ways: (1) Send a request to the following address: Dr. Joan Weiss, Designated Federal Official, Bureau of Health Professions, Health Resources and Services Administration, Parklawn Building, Room 9C-05, 5600 Fishers Lane, Rockville, Maryland 20857; (2) call (301) 443-6950; or (3) send an email to jweiss@hrsa.gov.

Dated: April 11, 2013.
Bahar Niakan,
Director, Division of Policy and Information Coordination.

[FR Doc. 2013-09135 Filed 4-17-13; 8:45 am]

BILLING CODE 4165-15-P